DEPARTMENT OF THE INTERIOR

Bureau of Land Management

[ES-912-1610-DQ]

Notice of Amendment to Closure Order to Provide for Limited Opening of Public Lands, Meadowood Farm, Fairfax, VA

AGENCY: Bureau of Land Management, Interior.

ACTION: Notice of amendment to closure order.

SUMMARY: The Bureau of Land Management announces its intent to amend a closure order in order to open a trail for pedestrian use by the public lands that were temporarily closed by the notice published in the Federal Register on October 22, 2001 (Notice of Temporary Closure of Access to Public Lands Administered by the Bureau of Land Management). Maps depicting the trail being opened are available for public inspection at the Lower Potomac Field Station, Meadowood Farm Office, Bureau of Land Management, at the address listed below. The trail being opened is for pedestrian use only. All other provisions of the October 22, 2001 closure order remain in effect.

This order is effective on April 29, 2003, and shall remain in effect until revised, revoked, or amended by the authorized officer pursuant to 43 CFR part 8360. Any person who violates this order may be subject to a maximum fine of $1,000 or imprisonment not to exceed 12 months or both under authority of 43 CFR 8360.0-7.

FOR FURTHER INFORMATION CONTACT: Charles Bush, Interim Manager, Lower Potomac Field Station-Meadowood Farm, 10406 Gunston Road, Lorton, Virginia 22079.

Dated: March 13, 2003.
Michael D. Nedd,
State Director.

[FR Doc. 03-10500 Filed 4-28-03; 8:45 am]

BILLING CODE 4310-GJ-P